DEPARTMENT OF ENERGY

Federal Energy Regulatory Commission

[Docket No. RP01-545-000]

Venice Gathering System, L.L.C.; Notice of Tariff Filing and Annual Charge Adjustment

September 6, 2001.

Take notice that on August 31, 2001, Venice Gathering System, L.L.C. (VGS), filed as part of its FERC Gas Tariff, Original Volume No. 1, the following proposed tariff sheet, with an effective date of October 1, 2001:

Third Revised Sheet No. 4

VGS states that this filing is submitted pursuant to Section 154.402(c) of the Commission's Regulations and Section 12.4 of the General Terms and Conditions of VGS' FERC Gas Tariff. VGS states that this is its first ACA charge filing, and that it has revised Sheet No. 4 to reflect the ACA unit charge of $.0021 per Dekatherm specified by the Commission in Bill No. M1G10033.

Any person desiring to be heard or to protest said filing should file a motion to intervene or a protest with the Federal Energy Regulatory Commission, 888 First Street, NE., Washington, DC 20426, in accordance with Sections 385.214 or 385.211 of the Commission's Rules and Regulations. All such motions or protests must be filed on or before September 13, 2001. Protests will be considered by the Commission in determining the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-22883 Filed 9-11-01; 8:45 am]

BILLING CODE 6717-01-P